DEPARTMENT OF TRANSPORTATION

Federal Aviation Administration

14 CFR Part 71

[Docket No. FAA-2024-2441; Airspace Docket No. 24-AWP-89]

RIN 2120-AA66

Modification of Class D Airspace and Modification of Class E Airspace; Jack Northrop Field/Hawthorne Municipal Airport, Hawthorne, CA

AGENCY: Federal Aviation Administration (FAA), DOT.

ACTION: Final rule.

SUMMARY: This action modifies the Class D airspace and Class E airspace designated as an extension to a Class D airspace at Jack Northrop Field/Hawthorne Municipal Airport, Hawthorne, CA. This action will more appropriately contain instrument flight rules (IFR) and visual flight rules (VFR) operations at the airport. Additionally, the airport's legal description is amended to match the FAA's database.

DATES: Effective date 0901 UTC, June 12, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Class D and Class E airspace to support IFR and VFR operations at Jack Northrop Field/Hawthorne Municipal Airport, Hawthorne, CA.

History

The FAA published an NPRM for Docket No. FAA 2024-2441 in the Federal Register (89 FR 92869) on November 25, 2024, proposing to amend Class D airspace and Class E airspace designated as an extension to a Class D airspace at Jack Northrop Field/Hawthorne Municipal Airport, Hawthorne, CA. Interested parties were invited to participate in this rulemaking effort by submitting written comments on the proposal to the FAA. No comments were received.

Differences From the NPRM

The FAA is amending the airport's legal description reference area line that was published in the NPRM action. Docket No. FAA 2024-2441 in the Federal Register (89 FR 92869; November 25, 2024), pertaining to other references used in describing the Class D airspace. The other reference used in describing the airport's Class D airspace legal description will be amended to Zamperini Field, CA.

Incorporation by Reference

Class D airspace and Class E airspace designated as an extension of a Class D or Class E surface area are published in paragraph 5000 and 6004 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by modifying the Class D airspace and Class E airspace designated as an extension to a Class D airspace at Jack Northrop Field/Hawthorne Municipal Airport, Hawthorne, CA, to support VFR and the containment of IFR operations.

The Class D airspace is modified to be within a 3.9-mile radius of the airport and within 2.9 miles southeast of the airport's 205° bearing extending 3.9 miles southwest, excluding that airspace within Zamperini Field Class D airspace area, Los Angeles International Airport Class D airspace area, and Los Angeles International Airport Class B airspace area. The Class D airspace extends upward from the surface up to and including 2,500 feet mean sea level. This airspace rulemaking action better accommodates IFR arrival operations descending from 1,000 feet above the surface and departing IFR operations until reaching 700 feet above the surface or the next adjacent controlled airspace.

The Class E airspace designated as an extension to a Class D airspace has been modified to be within 2 miles north and .5 miles south of the airport's 096° bearing, extending from the 3.9-mile arc to 6.3 miles east of the airport, excluding the Los Angeles International Airport Class B airspace area. This extension extends upward from the surface to the next controlled airspace.

Additionally, the FAA amended the administrative elements for the Jack Northrop Field/Hawthorne Municipal Airport's legal descriptions. The airport's reference point geographic coordinates have been amended from lat. 33°55′22″ N, long. 118°20′07″ W to lat. 33°55′22″ N, long. 118°20′06″W. The part-time text for airports with Class D airspace not operational for 24 hours has been modified to “The effective date and time thereafter be continuously published in the Chart Supplement.” Lastly, the phrases “Notice to Airmen” and “Airport/Facility Directory” have been changed to read “Notice to Air Missions” and “Chart Supplement,” respectively, to align with the FAA's current nomenclature.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

AWP CA D Hawthorne, CA [Amended]

Jack Northrop Field/Hawthorne Municipal Airport, CA

(Lat. 33°55′22″ N, long. 118°20′06″ W)

Los Angeles International Airport, CA

(Lat. 33°56′33″ N, long. 118°24′29″ W)

Zamperini Field, CA

(Lat. 33°48′12″ N, long. 118°20′23″ W)

That airspace extending upward from the surface up to and including 2,500 feet MSL within a 3.9-mile radius and within 2.9 miles southeast of the airport's 205° bearing extending 3.9 miles southwest, excluding that airspace within Zamperini Field Class D airspace area, Los Angeles International Airport Class D airspace area, and Los Angeles International Airport Class B airspace areas. This Class D airspace area is effective during the specific dates and times established in advance by a Notice to Air Missions. The effective date and time will thereafter be continuously published in the Chart Supplement.

* * * * *

Paragraph 6004 Class E Airspace Areas Designated as an Extension to a Class D or Class E Surface Area.

* * * * *

AWP CA E4 Hawthorne, CA [Amended]

Jack Northrop Field/Hawthorne Municipal Airport, CA

(Lat. 33°55′22″ N, long. 118°20′06″ W)

Los Angeles International Airport, CA

(Lat. 33°56′33″ N, long. 118°24′29″ W)

That airspace extending upward from the surface within 2 miles north and .5 miles south of the airport's 096° bearing, beginning from the 3.9-mile arc extending to 6.3 miles east of the airport, excluding the Los Angeles International Airport Class B airspace area. This Class E airspace area is effective during the specific dates and times established in advance by a Notice to Air Missions. The effective date and time will thereafter be continuously published in the Chart Supplement.

* * * * *

Issued in Des Moines, Washington, on February 6, 2025.
B.G. Chew,
Group Manager, Operations Support Group, Western Service Center.

[FR Doc. 2025-02699 Filed 2-14-25; 8:45 am]

BILLING CODE 4910-13-P